DEPARTMENT OF AGRICULTURE

Forest Service

Notice of Availability of Final Environmental Impact Statement and Record of Decision for the Southern Rockies Lynx Amendment

AGENCY: Forest Service, USDA.

ACTION: Notice of Availability.

SUMMARY: In accordance with the National Environmental Policy Act (NEPA) and the National Forest Management Act, (NFMA), the USDA Forest Service announces the availability of the Final Environmental Impact Statement (FEIS) and Record of Decision (ROD) for the Southern Rockies Lynx Amendment and the opening of the administrative appeal period.

DATES: The management direction will become effective 7 days after the date of publication of the legal notice published in the Denver Post, the newspaper of record. Administrative appeals must be postmarked or received within 45 days of the date the legal notice is published in the Denver Post.

ADDRESSES: Copies of the FEIS and ROD are available upon request from the Rocky Mountain Regional Office, 740 Simms St., Golden, Colorado 80401 or via the internet on the following Web site http://www.fs.fed.us/r2/lynx/index.html.

This decision is subject to review through the administrative appeals process pursuant to 36 CFR 217.3. Any appeals must be postmarked or received by the Appeal Reviewing Officer within 45 days of the date the legal notices are published in the Denver Post, the newspaper of record. Any notice of appeal must be fully consistent with 36 CFR 217.9. Addresses for submitting appeals can be founding the Record of Decision.

FOR FURTHER INFORMATION CONTACT: Martha Delporte, Regional Planner, mdelporte@fs.fed.us, telephone 303-275-5381; or Nancy Warren, Regional Threatened, Endangered and Sensitive Species Program leader, nwarren@fs.fed.us, telephone 303-275-5064.

SUPPLEMENTARY INFORMATION: The purpose of this project is to amend eight Land and Resource Management Plans (“Plans”) to incorporate management direction that will conserve and promote the recovery of the Canada lynx on National Forest System lands, while preserving the overall multiple-use direction in existing Plans. The Plans to be amended are: Arapaho-Roosevelt National Forests 1997 Revised Plan (Colorado); Grand Mesa, Uncompahgre and Gunnison National Forests 1983 Plan (Colorado); Pike-San Isabel National Forests 1984 Plan (Colorado); Rio Grande National Forest 1996 Revised Plan (Colorado); San Juan National Forest 1983 Plan (Colorado); White River National Forest 2002 Revised Plan (Colorado); Routt National Forest 1997 Revised Plan (Colorado); and Medicine Bow National Forests 2003 Revised Plan (Wyoming).

The State of Colorado's Department of Natural Resources is a cooperating agency on this project because of their special expertise on the status of lynx and the Colorado lynx reintroduction project.

The DEIS (Notice of Availability published Jan. 30, 2004) and Supplemental DEIS (Notice of Availability published Nov. 24, 2006) presented analysis of four alternatives. Five alternatives were analyzed in the FEIS. The responsible official determined that Alternative F-modified best meets the purpose and need, responds to primary issues and public comments, and meets the agency's responsibilities.

Under § 219.14(b) of Title 36, Code of Federal Regulations, Part 219—Planning, Subpart A—National Forest System Land Management Planning (36 CFR part 219, subpart A) otherwise known as the 2008 planning rule, this amendment has been approved using the provisions of the 1982 planning rule (See 36 CFR parts 200 to 299, Revised as of July 1, 2000). This plan amendment is appropriate, using the 1982 rule provisions, as allowed by 2008 rule, at 219.14 (b)(3), which says that during the transition, “plan amendments may continue using the provisions of the planning regulation in effect before November 9, 2000” and further says that if the provisions of the 1982 rule are used, the responsible official may “elect to use the administrative appeal and review procedures” at 36 CFR part 217 (See 36 CFR 219.14(b)(3)(iii)). The applicable appeal regulation states that “[I]mplementation of any decision subject to appeal pursuant to this part shall not occur for 7 calendar days following publication of the legal notice of the decision as required in this part.” (36 CFR 217.10(a)). Therefore, the approved Southern Rockies Lynx Amendment is effective 7 calendar days following publication of the legal notice of this decision in the Newspaper of Record, the Denver Post.

Antoine L. Dixon,
Deputy Regional Forester, Resources.

[FR Doc. E8-26309 Filed 11-6-08; 8:45 am]

BILLING CODE 3410-11-P